FEDERAL COMMUNICATIONS COMMISSION

[OMB 3060-1328; FR ID 283564]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.”

The Commission may not conduct or sponsor a collection of information unless it displays a currently valid Office of Management and Budget (OMB) control number. No person shall be subject to any penalty for failing to comply with a collection of information subject to the PRA that does not display a valid OMB control number.

DATES: Written comments and recommendations for the proposed information collection should be submitted on or before April 7, 2025.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Nicole Ongele, FCC, via email to PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-1328.

Title: Participation Information Collection for the IoT Labeling Program.

Form Number: N/A.

Type of Review: Revision of a currently approved collection.

Respondents: Business or other for-profit; Not-for-profit institutions.

Number of Respondents and Responses: 332 respondents; 3,150 responses.

Estimated Time per Response: 20 hours.

Frequency of Response: One-time and on occasion reporting requirements; recordkeeping requirements.

Obligation to Respond: Voluntary. Statutory authority for this collection is contained in 1, 2, 4(i), 4(n), 302, 303(r), 312, 333, and 503, of the Communications Act of 1934, as amended, 47 U.S.C. 151, 152, 154(i), 154(n), 302a, 303(r), 312, 333, 503; the IoT Cybersecurity Improvement Act of 2020, 15 U.S.C. 278g-3a to 278g-3e.

Total Annual Burden: 43,100 hours.

Total Annual Cost: No Cost.

Needs and Uses: The Commission seeks to revise this collection to reflect changes to these rules adopted by the Commission in a Public Notice on September 10, 2024 (opening an application filing window and adopting for Cybersecurity Label Administrator (CLA) and Lead Administrator). The FCC's consumer IoT cybersecurity labeling program will provide consumers with easily understood, accessible information on the relative security of a consumer IoT product they are considering for purchase, which will increase the security of devices consumers bring into their homes and as part of a national IoT ecosystem. CLAs will be authorized by the Commission to certify use of the FCC IoT Label, which includes the U.S. government certification mark (U.S. Cyber Trust Mark), by manufacturers whose products are found to be in compliance with the Commission's IoT cybersecurity labeling program rules. The September 2024 Public Notice adopted rules for the CLAs and the Lead Administrator to reduce the risk of unauthorized access, use, disclosure, disruption, modification, or destruction of program data. Under this collection, each CLA will be required to create, update, and implement a cybersecurity risk management plan identifying the cyber risks that the entity faces, the controls used to mitigate those risks, and the steps taken to ensure that these controls are applied effectively to their operations. The plan must also describe how the CLA employs its organizational resources and processes to ensure the confidentiality, integrity, and availability of its information and information systems. The CLA's cybersecurity risk management plan must be available to the Commission upon request.

Federal Communications Commission.
Marlene Dortch,
Secretary, Office of the Secretary.

[FR Doc. 2025-03717 Filed 3-6-25; 8:45 am]

BILLING CODE 6712-01-P